DEPARTMENT OF THE TREASURY

Office of Thrift Supervision

[AC-12: OTS Nos. H-3799 and 12110]

Bridge Street Financial, Inc., and Oswego County Savings Bank, Oswego, New York; Approval of Conversion Application

Notice is hereby given that on November 14, 2002, the Director, Supervision Policy, Office of Thrift Supervision (“OTS”), or her designee, acting pursuant to delegated authority, approved the application of Oswego County Savings Bank, Oswego, New York, to convert to the stock form of organization. Copies of the application are available for inspection by appointment (phone number: 202-906-5922 or e-mail: Public.Info@OTS.Treas.gov) at the Public Reading Room, OTS, 1700 G Street, NW., Washington, DC 20552, and the OTS Northeast Regional Office, 10 Exchange Place, 18th Floor, Jersey City, New Jersey 07302.

Dated: November 15, 2002.
By the Office of Thrift Supervision.
Nadine Y. Washington,
Corporate Secretary.

[FR Doc. 02-29526 Filed 11-20-02; 8:45 am]

BILLING CODE 6720-01-M